DEPARTMENT OF COMMERCE

International Trade Administration

[A-570-890]

Notice of Amended Final Determination of Sales at Less Than Fair Value/Pursuant to Court Decision: Wooden Bedroom Furniture from the People's Republic of China

AGENCY: Import Administration, International Trade Administration, U.S. Department of Commerce.

SUMMARY: On April 5, 2006, the United States Court of International Trade (“Court”) sustained the final remand determination made by the Department of Commerce (“the Department”) pursuant to the Court's remand of the amended final determination of the investigation of wooden bedroom furniture from the People's Republic of China (“PRC”). See Guangzhou Maria Yee Furnishings Ltd., et al. v. United States, Ct. No. 05-00065, Slip Op. 06-44 (Ct. Int'l Trade April 5, 2006) (“Maria Yee Order”). This case arises out of the Department's Final Determination of Sales at Less Than Fair Value: Wooden Bedroom Furniture From the People's Republic of China, 69 FR 67313 (November 17, 2004) (“Final Determination”), as amended, 70 FR 329 (January 4, 2005) (“Amended Final Determination”). Because the litigation in this matter is concluded, the Department is issuing an amended final determination in accordance with the CIT's decision.

EFFECTIVE DATE: June 22, 2006.

FOR FURTHER INFORMATION CONTACT: Eugene Degnan, AD/CVD Operations, Office 8, Import Administration, International Trade Administration, U.S. Department of Commerce, 14th Street and Constitution Avenue, NW., Washington DC 20230; telephone (202) 482-0414.

SUPPLEMENTARY INFORMATION:

Background

On November 17, 2004, the Department published its notice of final determination in the investigation of wooden bedroom furniture from the PRC. See Final Determination. On January 4, 2005, the Department published its notice of amended final determination in the investigation of wooden bedroom furniture from the PRC. See Amended Final Determination.

In Guangzhou Maria Yee Furnishings, Ltd., et al. v. United States, Ct. No. 05-00065, Slip Op. 05-158 (CIT December 14, 2005), the Court remanded the Department's determination to reject, as untimely, certain information submitted by Guangzhou Maria Yee Furnishings Ltd. and Pyla HK Ltd.) (“Maria Yee”). The Court found that the Department's method of notice to parties of the requirement and deadline to submit a response to Section A of the Department's questionnaire was not reasonable, and remanded this case to the Department for further consideration consistent with the Court's opinion, and in light of the Court's decision in Decca Hospitality Furnishings, LLC v. United States, 391 F. Supp. 2d 1298 (2005).

The remand redetermination explained that, in accordance with the Court's opinion, the Department must analyze the evidence presented by Maria Yee to determine whether it is eligible for a separate rate. Accordingly, on December 27, 2005, the Department reopened the record and requested that Maria Yee re-submit a copy of its initial July 2, 2004, submission, which it did on December 28, 2005. Additionally, the Department issued one supplemental questionnaire to Maria Yee to address a few deficiencies found in its December 28, 2005, submission. Maria Yee submitted timely and complete responses to these questionnaires. On February 10, 2006, the Department issued its draft results of redetermination pursuant to remand for comment by the interested parties. On February 14, 2006, Maria Yee submitted comments in response to the Department's draft results of redetermination. No other party filed comments. On March 1, 2006, the Department issued its final results of redetermination pursuant to remand to the Court. Based on our analysis of Maria Yee's evidence, we determined that Maria Yee qualifies for a separate rate in the investigation of wooden bedroom furniture from the PRC. See Final Results of Redetermination Pursuant to Court Remand, March 1, 2006.

On April 5, 2006, the Court ruled that the Department's remand determination is supported by substantial evidence, and affirmed the Department's remand results in their entirety. See Maria Yee Order. Granting a separate rate to Maria Yee changes it's antidumping duty rate from the PRC-wide rate of 198.08 percent to the Section A respondent rate of 6.65 percent.

On April 27, 2006, consistent with the decision in Timken Co. v. United States, 893 F.2d 337 (Fed. Cir. 1990), the Department notified the public that the CIT's decision was not “in harmony” with the Department's final determination. See Wooden Bedroom Furniture from the People's Republic of China: Notice of Court Decision Not in Harmony, 71 FR 24840 (April 27, 2006).

Amended Final Determination

There is now a final and conclusive court decision in the court proceeding and we are thus amending the Amended Final Determination to reflect the results of our remand determination.

The revised dumping margin is as follows:

Company | Weighted-Average Margin (Percent)
Maria Yee | 6.65

U.S. Customs and Border Protection will require a cash deposit rate of 6.65 percent for subject merchandise exported by Maria Yee and entered, or withdrawn from warehouse, for consumption on or after the effective date of this notice. This cash deposit requirement shall remain in effect until publication of the final results of an administrative review of this order.

This notice is published in accordance with sections 735(d) and 777(i) of the Tariff Act of 1930, as amended.

Dated: June 16, 2006.
David M. Spooner,
Assistant Secretary for Import Administration.

[FR Doc. E6-9876 Filed 6-21-06; 8:45 am]

BILLING CODE 3510-DS-S